DEPARTMENT OF TRANSPORTATION

Federal Aviation Administration

14 CFR Part 93

[Docket No. FAA-2004-17005; Notice No. 05-16]

RIN 2120-AC84

Washington, DC Metropolitan Area Special Flight Rules Area; Notice of Public Meetings

AGENCY: Federal Aviation Administration, DOT.

ACTION: Notice of public meetings.

SUMMARY: The FAA announces public meetings on its proposal to codify current flight restrictions for certain aircraft operations in the Washington, DC Metropolitan Area. The purpose of the public meetings is for the FAA to hear comments and gather information related to its Notice of Proposed Rulemaking (NPRM) published on August 4, 2005.

DATES: The public meetings will be held on the following dates. (Note that the meetings may be adjourned early if scheduled speakers complete their presentations in less time than is scheduled for the meetings.)

• January 12, 2006 from 1 p.m. until no later than 4 p.m., and from 6:30 p.m. until no later than 9 p.m. (The deadline to submit a request to make an oral statement is January 5, 2006.)

• January 18, 2006 from 1 p.m. until no later than 4 p.m., and from 6:30 p.m. until no later than 9 p.m. (The deadline to submit a request to make an oral statement is January 11, 2006.)

The written comment period will close on February 6, 2006.

ADDRESSES: The January 12, 2006 public meetings will be held at the Sheraton Colombia Hotel, 10207 Wincopin Circle, Columbia, MD 21044; telephone 410-730-3900; http://www.starwoodhotels.com/sheraton/index.html.

The January 18, 2006 public meetings will be held at the Washington Dulles Airport Marriott (Salon A, B, and C), 45020 Aviation Drive, Dulles, VA 20166; telephone 703-471-9500; http://marriott.com/default.mi.

You may submit written comments (identified by Docket Number FAA-2004-17005) using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

Privacy: We will post all comments we receive, without change, to http://dms.dot.gov, including any personal information you provide. For more information, see the Privacy Act discussion under “Comments Invited” in the SUPPLEMENTARY INFORMATION section of the FAA's August 5, 2005 NPRM.

Docket: To read background documents or comments received, go to http://dms.dot.gov at any time or to Room PL-401 on the plaza level of the Nassif Building, 400 Seventh Street, SW., Washington, DC, between 9 a.m. and 5 p.m., Monday through Friday, except Federal holidays. Written comments to the docket will receive the same consideration as statements made at the public meeting.

FOR FURTHER INFORMATION CONTACT: Requests to present a statement at the public meetings and questions regarding the logistics of the meetings should be directed to Noreen Hannigan, Office of Rulemaking (ARM-106), Federal Aviation Administration, 800 Independence Avenue SW., Washington, DC 20591; telephone (202) 267-7476, facsimile (202) 267-5075.

SUPPLEMENTARY INFORMATION:

Background

On August 4, 2005, the FAA published a Notice of Proposed Rulemaking (NPRM) titled “Washington, DC Metropolitan Area Special Flight Rules Area” (70 FR 45250; Aug. 4, 2005). The comment period closed November 2, 2005; however, in response to public request, the comment period was reopened until February 6, 2006. In addition, the FAA also announced its intention to hold public meetings. See the Federal Register of November 7, 2005 (70 FR 67388; Nov. 7, 2005).

Purpose of the Public Meetings

The purpose of the public meetings is for the FAA to hear the public's views and obtain information relevant to the final rule under consideration. The FAA will consider comments made at the public meetings before making a final decision on issuance of the final rule.

In the economic analysis to the August 4, 2005 NPRM, the FAA requested information from the public. If you have not already submitted data to the FAA on these areas, you may do so at the public meetings. The FAA requests that all comments be accompanied by full documentation.

In addition to the information sought in the NPRM, the FAA seeks information on the following questions. Again, the FAA requests that all comments be accompanied by full documentation.

• What has been the effect of the airspace restrictions on aircraft owners that relocated outside the Washington, DC Air Defense Identification Zone (ADIZ)? What has been the loss of income for those aircraft owners?

• What has been the loss in time and revenue of pilots flying longer routes to avoid the DC ADIZ or curtailing their flying because of the DC ADIZ?

• What is the percentage of reduction in overall flying because of the existence of the DC ADIZ?

Participation at the Public Meetings

If you wish to present an oral statement at the January 12, 2006 public meetings, you should submit your request to the FAA no later than January 5, 2006.

If you wish to present an oral statement at the January 18, 2006 public meetings, you should submit your request to the FAA no later than January 11, 2006.

Your requests should be submitted as described under FOR FURTHER INFORMATION CONTACT and should include a written summary of oral remarks to be presented and an estimate of time needed for the presentation. Requests received after the dates specified above will be scheduled if there is time available during the meetings; however, the speakers' names may not appear on the written agendas. To accommodate as many speakers as possible, the amount of time allocated to each speaker may be less than the amount of time requested. See “Public Meeting Procedures” below.

The FAA will have available a projector and a computer capable of accommodating Word and PowerPoint presentations from a compact disk (CD) or USB memory device. Persons requiring any other kind of audiovisual equipment should notify the FAA when requesting to be placed on the agenda.

Sign and oral interpretation can be made available at the meeting, as well as an assistive listening device, if requested 10 calendar days before the meeting.

Public Meeting Procedures

A panel of representatives from the FAA and other government agencies will be present. An FAA representative will facilitate the meetings in accordance with the following procedures:

(1) The meetings are designed to facilitate the public comment process. The meetings will be informal and non-adversarial. No individual will be subject to cross-examination by any other participant. Government representatives on the panel may ask questions to clarify statements and to ensure an accurate record. Any statement made during the meetings by a panel member should not be construed as an official position of the government.

(2) There will be no admission fees or other charges to attend or to participate in the public meetings. The meetings will be open to all persons, subject to availability of space in the meeting room. The FAA will make every effort to accommodate all persons wishing to attend. The FAA asks that you sign in between 12-1 pm., or 5:30-6:30 p.m., on the day of the meeting you are attending. The FAA will try to accommodate all speakers; however if available time does not allow this, speakers will be scheduled on a first-come-first-served basis. The FAA reserves the right to exclude some speakers, if necessary, to obtain balanced viewpoints. The meetings may adjourn early if scheduled speakers complete their statements in less time than is scheduled for the meetings.

(3) The FAA will prepare agendas of speakers and presenters and make the agendas available at the meetings.

(4) Speakers may be limited to 5-10-minute statements. If possible, the FAA will notify speakers if additional time is available.

(5) The meetings will be recorded by a court reporter. A transcript of the meetings and all material accepted by the panel during the meetings will be included in the public docket, unless protected from disclosure. Each person interested in purchasing a copy of a transcript should contact the court reporter directly. Information on how to purchase a transcript will be available at the meetings.

(6) The FAA will review and consider all material presented by participants at the public meetings. Position papers or materials presenting views or information related to the draft final rule may be accepted at the discretion of the presiding officer and will be subsequently placed in the public docket. The FAA requests that presenters at the meetings provide at least 10 copies of all materials for distribution to the panel members. Presenters may provide other copies to the audience at their discretion.

(7) Each person presenting comments is asked to submit data to support the comments. The FAA will protect from disclosure all proprietary data submitted in accordance with applicable laws.

Issued in Washington, DC, on December 7, 2005.
Anthony F. Fazio,
Director, Office of Rulemaking.

[FR Doc. 05-23982 Filed 12-8-05; 12:57 pm]

BILLING CODE 4910-13-P